DEPARTMENT OF TRANSPORTATION

Federal Highway Administration

Notice of Final Federal Agency Actions on a Local Arterial in California

AGENCY: Federal Highway Administration (FHWA), DOT.

ACTION: Notice of Limitation on Claims for Judicial Review of Actions by Caltrans.

SUMMARY: This notice announces actions taken by the California Department of Transportation (Caltrans) pursuant to its assigned responsibilities under 23 U.S.C. 327 that are final within the meaning of 23 U.S.C. 139(l)(1). The actions relate to a proposed highway project—Grand Avenue Widening Project, City of Santa Ana, in the County of Orange, State of California. Those actions grant licenses, permits, and approvals for the project.

DATES: By this notice, Caltrans is advising the public of final agency actions subject to 23 U.S.C. 139(l)(1). A claim seeking judicial review of the Federal agency actions on the highway project will be barred unless the claim is filed on or before April 4, 2012. If the Federal law that authorizes judicial review of a claim provides a time period of less than 180 days for filing such claim, then that shorter time period still applies.

FOR FURTHER INFORMATION CONTACT: Charles Baker, Senior Environmental Planner, California Department of Transportation, 3347 Michelson Drive, Suite 100, Irvine, CA 92612-1692; office hours Monday through Friday, 8 a.m. to 5 p.m., (949) 724-2552; and Charles_Baker@dot.ca.gov.

SUPPLEMENTARY INFORMATION: Notice is hereby given that Caltrans, pursuant to its assigned responsibilities under 23 U.S.C. 327 has taken final agency actions subject to 23 U.S.C. 139(l)(1) by approving the following highway project in the State of California: The project proposes to widen a segment of Grand Avenue between First Street and Fourth Street in the City of Santa Ana from two to three lanes of through travel and to provide left-turn and right-turn lanes at major intersections, and install a raised landscaped center median. The actions by Caltrans, and the laws under which such actions were taken, are described in the Final Environmental Assessment (FEA) and Finding of No Significant Impact (FONSI) for the project, both approved on September 1, 2011, and in other documents in Caltrans' project records. The FEA and other project records are available by contacting the California Department of Transportation at the address provided above. This notice applies to all agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act (CAA) [42 U.S.C. 7401-7671(q)].

3. Land: Section 4(f) of the Department of Transportation Act of 1966 (4f) [49 U.S.C. 303].

4. Wildlife: Endangered Species Act (ESA) [16 U.S.C. 1531-1544 and Section 1536]; Migratory Bird Treaty Act (MBTA) [16 U.S.C. 703-712].

5. Historic and Cultural Resources: Section 106 of the National Historic Preservation Act of 1966, as amended (106) [16 U.S.C. 470(f) et seq.]; Archeological Resources Protection Act of 1977 (ARPA) [16 U.S.C. 470(aa)-470(ll)]; Archeological and Historic Preservation Act (AHPA) [16 U.S.C. 469-469(c)].

6. Social and Economic: Civil Rights Act of 1964 (Civil Rights) [42 U.S.C. 2000(d)-2000(d)(1)].

7. Wetlands and Water Resources: Clean Water Act (Section 404, Section 401, Section 319) [33 U.S.C. 1251-1377]; Rivers and Harbors Act of 1899 (RHA) [33 U.S.C. 401-406]; Wetlands Mitigation (Sections 103 and 133) [23 U.S.C. 103(b)(6)(M) and 133(b)(11)].

8. Executive Orders: E.O. 11990 Protection of Wetlands; E.O. 11988 Floodplain Management; E.O. 11514 Protection and Enhancement of Environmental Quality; E.O. 12898, Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: October 3, 2011.
Jacob Waclaw,
Senior Transportation Engineer, Local Agency Programs, Federal Highway Administration, Los Angeles, CA.

[FR Doc. 2011-25982 Filed 10-6-11; 8:45 am]

BILLING CODE 4910-RY-P